SURFACE TRANSPORTATION BOARD

[Docket No. FD 36534]

Arkansas-Oklahoma Railroad, Inc.—Lease and Operation Exemption With Interchange Commitment—BNSF Railway Company

Arkansas-Oklahoma Railroad, Inc. (AOK), a Class III rail carrier, has filed a verified notice of exemption under 49 CFR 1150.41 to lease from BNSF Railway Company (BNSF) and operate an approximately 10.658 miles of rail line extending between milepost 134.037 and milepost 123.379 on BNSF's Shawnee Industrial Spur in Shawnee, Okla. (the Line).

The verified notice states that AOK and BNSF have entered into a lease agreement and that AOK will operate the Line after the transaction.

AOK certifies that its projected annual revenues from this transaction will not result in AOK's becoming a Class I or Class II rail carrier. Pursuant to 49 CFR 1150.42(e), which applies “[i]f the projected annual revenue of the rail lines to be acquired or operated, together with the acquiring carrier's projected annual revenue, exceeds $5 million,” AOK certified on July 29, 2021 that notice of the transaction was posted at the workplaces of current BNSF employees on the Line and was being served on the national offices of the labor unions for those employees.

As required under 49 CFR 1150.43(h)(1), AOK has disclosed in its verified notice that its lease agreement with BNSF contains an interchange commitment that affects interchange with carriers other than BNSF.¹ The affected interchange is with Union Pacific Railroad Company at Oklahoma City, Okla. AOK has provided additional information regarding the interchange commitment as required by 49 CFR 1150.43(h).

¹ A copy of the lease with the interchange commitment was submitted under seal. See 49 CFR 1150.43(h)(1).

The earliest this transaction may be consummated is September 27, 2021 (60 days after the certification under 49 CFR 1150.42(e) was filed).

If the notice contains false or misleading information, the exemption is void ab initio. Petitions to revoke the exemption under 49 U.S.C. 10502(d) may be filed at any time. The filing of a petition to revoke will not automatically stay the effectiveness of the exemption. Petitions for stay must be filed no later than September 20, 2021.

All pleadings, referring to Docket No. FD 36534, should be filed with the Surface Transportation Board via e-filing on the Board's website. In addition, one copy of each pleading must be served on AOK's representative: Eric M. Hocky, Clark Hill PLC, Two Commerce Square, 2001 Market Street, Suite 2620, Philadelphia, PA 19103.

According to AOK, this action is categorically excluded from environmental review under 49 CFR 1105.6(c) and from historic preservation reporting requirements under 49 CFR 1105.8(b).

Board decisions and notices are available at www.stb.gov.

Decided: September 7, 2021.
By the Board, Scott M. Zimmerman, Acting Director, Office of Proceedings.
Kenyatta Clay,
Clearance Clerk.

[FR Doc. 2021-19568 Filed 9-9-21; 8:45 am]

BILLING CODE 4915-01-P